DEPARTMENT OF COMMERCE

National Oceanic and Atmospheric Administration

RIN 0648-XE818

Pacific Fishery Management Council; Public Meeting

AGENCY: National Marine Fisheries Service (NMFS), National Oceanic and Atmospheric Administration (NOAA), Commerce.

ACTION: Notice; public meeting.

SUMMARY: The Pacific Fishery Management Council's (Pacific Council) Highly Migratory Species Management Team (HMSMT) will hold a webinar, which is open to the public.

DATES: The webinar will be held on Thursday, September 8, 2016, from 1:30 p.m. to 4:30 p.m.

ADDRESSES:

Webinar information: To join the meeting, visit this link: http://www.joinwebinar.com; enter the Webinar ID: 157-057-235 and your name and email address (required). After logging in to the webinar, please select “Use Telephone” and dial this TOLL number +1 (213) 929-4232; enter the attendee phone audio access code 832-921-033 and enter your audio phone PIN (shown after joining the webinar). (Participants are required to use their telephone, as this is the best practice to avoid technical issues and excessive feedback, see the PFMC GoToMeeting Audio Diagram for best practices.)

Council address: Pacific Council, 7700 NE Ambassador Place, Suite 101, Portland, OR 97220-1384.

FOR FURTHER INFORMATION CONTACT: Dr. Kit Dahl, Pacific Council; telephone: (503) 820-2422; email: kit.dahl@noaa.gov.

SUPPLEMENTARY INFORMATION: The HMSMT will discuss preparation of reports for the September 12-20, 2016, Council meeting. HMS items on the Council agenda are: (1) Update on International Issues, (2) Exempted Fishing Permits, (3) Biennial Harvest Specifications and Management Measures, (4) Deep-Set Buoy Gear Exempted Fishing Permit Criteria to Advance Gear Authorization, and (5) Federal Drift Gillnet Permit Amendment.

There will be a public listening station at the Council office (see ADDRESSES).

Although non-emergency issues not contained in the meeting agenda may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

The meeting is physically accessible to people with disabilities. Requests for sign language interpretation or other auxiliary aids should be directed to Mr. Kris Kleinschmidt at (503) 820-2425 at least 5 days prior to the meeting date.

Dated: August 16, 2016.
Tracey L. Thompson,
Acting Deputy Director, Office of Sustainable Fisheries, National Marine Fisheries Service.

[FR Doc. 2016-19813 Filed 8-18-16; 8:45 am]

BILLING CODE 3510-22-P